NUCLEAR REGULATORY COMMISSION

[Docket Nos. 50-237, 50-249, 50-254, and 50-265]

Exelon Generation Company, LLC, Dresden Nuclear Power Station, Units 2 and 3, Quad Cities Nuclear Power Station, Units 1 and 2; Exemption

1.0 Background

The Exelon Generation Company, LLC (the licensee) is the holder of Facility Operating License Nos. DPR-19 and DPR-25, which authorize operation of the Dresden Nuclear Power Station, Units 2 and 3 (Dresden), and Facility Operating License Nos. DPR-29 and DPR-30, which authorize operation of the Quad Cities Nuclear Power Station, Units 1 and 2 (Quad Cities). The license provides, among other things, that the facility is subject to all rules, regulations, and orders of the U.S. Nuclear Regulatory Commission (NRC, the Commission) now or hereafter in effect.

The Dresden facility consists of two boiling-water reactors located in Grundy County, Illinois, and the Quad Cities facility consists of two boiling-water reactors located in Rock Island County, Illinois.

2.0 Request/Action

Title 10 of the Code of Federal Regulations (10 CFR), part 50, section 50.71, paragraph (e)(4) requires that subsequent revisions to the Updated Final Safety Analysis Report (UFSAR) be submitted periodically to the NRC provided that the interval between successive updates does not exceed 24 months. The Dresden and Quad Cities UFSAR revisions are currently submitted on a 24-month cycle. The next scheduled date for submittal of the revised UFSAR for Dresden is June 30, 2003, and for Quad Cities is October 20, 2003. The licensee proposes to submit revised UFSARs along with Operating License Renewal Applications (LRAs) for Dresden and Quad Cities in January 2003, and to resume the established schedule for submittal of UFSAR revisions for Dresden on June 30, 2005, and for Quad Cities on October 20, 2005. An exemption is required because 10 CFR 50.71(e)(4) requires that subsequent revisions to the UFSAR be submitted periodically to the NRC provided that the interval between successive updates does not exceed 24 months.

3.0 Discussion

Pursuant to 10 CFR 50.12, the Commission may, upon application by any interested person or upon its own initiative, grant exemptions from the requirements of 10 CFR part 50 when (1) the exemptions are authorized by law, will not present an undue risk to public health or safety, and are consistent with the common defense and security; and (2) when special circumstances are present. These circumstances include the special circumstances that compliance would result in undue hardship or other costs that are significantly in excess of those contemplated when the regulation was adopted, or that are significantly in excess of those incurred by others similarly situated.

The underlying purpose of the regulation is to ensure the UFSAR contains the latest information and analyses submitted to the NRC by the licensee or prepared by the licensee pursuant to NRC requirement since the submittal of the original final safety analysis report, or, as appropriate, since the last update to the final safety analysis report submitted under 10 CFR 50.71(e).

The staff examined the licensee's rationale to support the exemption request and concluded that granting it would meet the underlying purpose of 10 CFR part 50. Consistent with previous applicants and in order to facilitate the review of LRAs for Dresden and Quad Cities, the licensee plans to submit revised copies of each station's UFSAR along with the LRAs in January 2003. Submitting the revised UFSARs with the LRAs in January 2003 will result in submittal of the revisions for Dresden and Quad Cities earlier than their normal due dates. Revised UFSARs are necessary to facilitate NRC review of the LRAs due to numerous changes approved for the stations since the last revisions, including modifications due to extended power uprates, fuel type changes, and numerous other license amendments. A revised UFSAR is an integral element of the technical resources used by the NRC for the review of an LRA. The licensee maintains the UFSARs current with controlled and approved procedures which track and account for all changes for subsequent incorporation. The licensee UFSAR control process ensures that the UFSARs are maintained as required by NRC regulations. The proposed action only alters the schedule for submittal of the UFSAR revisions on a one-time basis. The requested exemption will only provide temporary relief from the applicable regulation and does not jeopardize the health and safety of the public. The licensee plans to resume the established schedule for submittal of the UFSAR revisions in 2005 for both stations. Also, the licensee plans to submit all other documents incorporated by reference in the UFSARs on the regularly scheduled dates in 2003.

10 CFR 50.12(a)(2)(iii) requires that special circumstances are present whenever compliance would result in undue hardship or other costs that are significantly in excess of those contemplated when the regulation was adopted, or that are significantly in excess of those incurred by others similarly situated. If the exemption is not granted, the licensee will have to prepare multiple UFSAR revision submittals within a ten-month period. Resetting the schedule for UFSAR update submittals to every other year in January would also result in undue hardship due to the scheduling of resources towards the end and beginning of the year. The staff finds that the licensee merits the required special circumstances under 10 CFR 50.12(a)(2)(iii).

Therefore, the staff concludes that pursuant to 10 CFR 50.12(a)(2), a one-time exemption is authorized from the requirements of 10 CFR 50.71(e)(4) to allow extension of the submittal of revisions to the Dresden and Quad Cities UFSARs until June 30, 2005, and October 20, 2005, respectively.

4.0 Conclusion

Accordingly, the Commission has determined that, pursuant to 10 CFR 50.12(a), the exemption is authorized by law, will not present an undue risk to the public health and safety, and is consistent with the common defense and security. Also, special circumstances are present. Therefore, the Commission hereby grants Exelon Generation Company, LLC a one-time exemption for Dresden and Quad Cities from the requirement of 10 CFR 50.71(e)(4) that subsequent revisions to the UFSAR be submitted periodically to the NRC provided that the interval between successive updates does not exceed 24 months. The exemption is granted based upon the licensee's intention to submit updated UFSARs along with LRAs in January 2003, as stated in the letter from K. Jury (licensee) to NRC Document Control Desk, “Request for Schedular Exemption for Biennial Submittal of Revised Updated Safety Analysis Reports (UFSARs) to Support Operating License Renewal Application,” dated August 9, 2002.

Pursuant to 10 CFR 51.32, the Commission has determined that the granting of this exemption will not have a significant effect on the quality of the human environment (67 FR 59580).

This exemption is effective upon issuance.

Dated at Rockville, Maryland, this 2nd day of October 2002.
For the Nuclear Regulatory Commission.
John A. Zwolinski,
Director, Division of Licensing Project Management, Office of Nuclear Reactor Regulation.

[FR Doc. 02-25387 Filed 10-4-02; 8:45 am]

BILLING CODE 7590-01-P